DEPARTMENT OF THE INTERIOR

Bureau of Land Management

[LLNVB00000.L14300000.ET0000; NVN-50507; 10-08807; MO; TAS:14X1109]

Public Land Order No. 7754; Extension of Public Land Order No. 6818, Nevada

AGENCY: Bureau of Land Management, Interior.

ACTION: Public Land Order.

SUMMARY: This order extends the withdrawal created by Public Land Order No. 6818 for an additional 20-year period. This extension is necessary to continue protection of the Federal investment of the Bureau of Land Management's Tonopah Administrative Site in Nye County, Nevada, which would otherwise expire on November 28, 2010.

DATES: Effective Date: November 29, 2010.

FOR FURTHER INFORMATION CONTACT: Pamela C. Ridley, Bureau of Land Management, Nevada State Office, P.O. Box 12000, 1340 Financial Blvd., Reno, Nevada 89502, or 775-861-6530.

SUPPLEMENTARY INFORMATION: The purpose for which the withdrawal was first made requires this extension to continue protection of the Tonopah Administrative Site. The withdrawal extended by this order will expire on November 28, 2030, unless as a result of a review conducted prior to the expiration date pursuant to Section 204(f) of the Federal Land Policy and Management Act of 1976, 43 U.S.C. 1714(f) the Secretary determines that the withdrawal shall be further extended.

Order

By virtue of the authority vested in the Secretary of the Interior by Section 204 of the Federal Land Policy and Management Act of 1976, 43 U.S.C. 1714, it is ordered as follows:

Public Land Order No. 6818 (55 FR 49522 (1990)), which withdrew 5 acres of public land from settlement, sale, location, or entry under the general land laws, including the United States mining laws (30 U.S.C. ch. 2), but not from leasing under the mineral leasing laws to protect the Federal investment in the Tonopah Administrative Site, is hereby extended for an additional 20-year period until November 28, 2030.

Authority: 43 CFR 2310.4.

Dated: November 23, 2010.
Wilma A. Lewis,
Assistant Secretary—Land and Minerals Management.

[FR Doc. 2010-31211 Filed 12-10-10; 8:45 am]

BILLING CODE 4310-HC-P